DEPARTMENT OF HOMELAND SECURITY

[Docket No. DHS-2017-0017]

National Infrastructure Advisory Council

AGENCY: National Protection and Programs Directorate, DHS.

ACTION: Committee Management; Notice of an Open Federal Advisory Committee Meeting.

SUMMARY: The National Infrastructure Advisory Council (NIAC) will meet Monday, May 8, 2017, at 1331 F Street NW., Suite 800, Washington, DC 20004. This meeting will be open to the public.

DATES: The NIAC will meet on May 8, 2017 from 1:30 p.m.-4:30 p.m. ET. The meeting may close early if the committee has completed its business. For additional information, please consult the NIAC Web site, www.dhs.gov/NIAC, or contact the NIAC Secretariat by phone at (703) 235-2888 or by email at NIAC@hq.dhs.gov.

ADDRESSES: 1331 F Street NW., Suite 800, Washington, DC 20004. Members of the public will register at the registration table prior to entering the meeting room. For information on facilities or services for individuals with disabilities, or to request special assistance at the meeting, contact the person listed under FOR FURTHER INFORMATION CONTACT below as soon as possible.

To facilitate public participation, we are inviting public comment on the issues to be considered by the Council as listed in the “Summary” section below. Comments must be submitted in writing no later than 12:00 p.m. on May 8, 2017, in order to be considered by the Council in its meeting. The comments must be identified by “DHS-2016-0005,” and may be submitted by any one of the following methods:

• Federal eRulemaking Portal: www.regulations.gov. Follow the instructions for submitting written comments.

• Email: NIAC@hq.dhs.gov. Include the docket number in the subject line of the message.

• Fax: (703)235-9707.

• Mail: Ginger Norris, National Protection and Programs Directorate, Department of Homeland Security, 245 Murray Lane SW., Mail Stop 0612, Washington, DC 20598-0607.

Instructions: All written submissions received must include the words “Department of Homeland Security” and the docket number for this action. Written comments received will be posted without alteration at www.regulations.gov, including any personal information provided.

Docket: For access to the docket or to read background documents or comments received by the NIAC, go to www.regulations.gov. Enter “NIAC” in the search line and the Web site will list all relevant documents for your review.

Members of the public will have an opportunity to provide oral comments on the topics on the meeting agenda below, and on any previous studies issued by the NIAC. We request that comments be limited to the issues and studies listed in the meeting agenda and previous NIAC studies. All previous NIAC studies can be located at www.dhs.gov/NIAC. Public comments may be submitted in writing or presented in person for the Council to consider. Comments received by Ginger Norris on or after 1:00 p.m. on May 8, 2017 will still be accepted and reviewed by the Members, but not necessarily at the time of the meeting. In-person presentations will be limited to three minutes per speaker, with no more than 15 minutes for all speakers. Parties interested in making in-person comments should register on the Public Comment Registration list available at the entrance to the meeting location prior to the beginning of the meeting.

FOR FURTHER INFORMATION CONTACT: Ginger Norris, NIAC, Designated Federal Officer, Department of Homeland Security, 202-441-5885.

SUPPLEMENTARY INFORMATION: Notice of this meeting is given under the Federal Advisory Committee Act, 5 U.S.C. appendix. The NIAC shall provide the President, through the Secretary of Homeland Security, with advice on the security and resilience of the Nation's critical infrastructure sectors. The NIAC will meet to discuss issues relevant to critical infrastructure security and resilience, as directed by the President.

The meeting will commence at 1:30 p.m. EST. At this meeting, the Council will discuss its newest tasking and receive briefings. All presentations will be posted prior to the meeting on the Council's public Web page— www.dhs.gov/NIAC.

Public Meeting Agenda

I. Opening of Meeting

II. Roll Call of Members

III. Opening Remarks and Introductions

IV. Approval of February 2017 Meeting Minutes

V. Presentations on Future Focus Study

VI. Public Comment

VII. Discussion of New NIAC Business

VIII. Closing Remarks

IX. Adjournment

The FACA requires that notices of meetings of advisory committees be announced in the Federal Register 15 days prior to the meeting date. However, this notice of the NIAC meeting is being published in the Federal Register notice on April 27, 2017 10 days prior to the meeting due to the immediate need for the NIAC members to meet to discuss cyber threats to critical infrastructure. Notwithstanding the difficulties that delayed publication, this NIAC meeting must occur. Although the meeting notice was published in the Federal Register late, the meeting date was announced during the public meeting on February 16, 2017 and the agenda will be published on the NIAC Web site listed in this Federal Register Notice.

Dated: April 17, 2017.
Ginger Norris,
Designated Federal Officer for the National Infrastructure Advisory Council.

[FR Doc. 2017-08637 Filed 4-27-17; 8:45 am]

BILLING CODE 9110-9P-P